DEPARTMENT OF DEFENSE

GENERAL SERVICES ADMINISTRATION

NATIONAL AERONAUTICS AND SPACE ADMINISTRATION

[OMB Control No. 9000-0006]

Proposed Collection; Comment Request Entitled Subcontracting Plans/Subcontracting Report for Individual Contracts (Standard Form 294)

AGENCIES: Department of Defense (DOD), General Services Administration (GSA), and National Aeronautics and Space Administration (NASA).

ACTION: Correction.

SUMMARY: This notice corrects the information collection requirement regarding an extension to an existing OMB Clearance Number 9000-0006 previously published in the Federal Register at 66 FR 7468, January 23, 2001.

CORRECTION: In the document appearing in the January 23, 2001, issue, add the following before the ADDRESSES paragraph:

“Dates: Comments may be submitted on or before April 6, 2001.”

FOR FURTHER INFORMATION CONTACT: Rhonda Cundiff, Office of Acquisition Policy, GSA (202) 501-0044.

Dated: January 30, 2001.
Al Matera,
Acting Director, Federal Acquisition Policy Division.

[FR Doc. 01-2901 Filed 2-2-01; 8:45 am]

BILLING CODE 6820-34-U